DEPARTMENT OF HEALTH AND HUMAN SERVICES

Centers for Disease Control and Prevention

[30Day-05-0395X]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210 or send an e-mail to omb@cdc.gov. Send written comments to CDC Desk Officer, Human Resources and Housing Branch, New Executive Office Building, Room 10235, Washington, DC 20503 or by fax to (202) 395-6974. Written comments should be received within 30 days of this notice.

Proposed Project

Increasing Cervical Cancer Screening in Never or Rarely Screened Black Women: Phase 1—New—National Center for Chronic Disease Prevention and Health Promotion (NCCDPHP), Centers for Disease Control and Prevention (CDC).

Black women in the United States have higher incidence of cervical cancer than White women and higher mortality from cervical cancer than White women. Cancer mortality data from 1974-1994 for Black women show stable, geographic patterns of cervical cancer mortality predominantly in the southeastern part of the United States. While screening rates of Black women are shown to be similar to White women, subgroups of Black women may remain unscreened or under-screened (more than three years since the last Pap test), specifically those who are medically uninsured or underinsured or live in rural areas of the country. Screening rates are particularly low for women without access to health care.

The purpose of this project is to conduct formative research to better understand why some Black women ages 50 to 64 do not participate in cervical cancer screening. The proposed study will use focus groups and personal interviews to gather information that will be used to guide future intervention strategies to increase cervical cancer screening in never or rarely screened Black women. There is no cost to respondents except their time to participate. The estimated annualized burden is 158 hours.

Annualized Burden Table
Respondents | Form | No. of respondents | No. of responses per respondent | Avg. burden per response (in hours)
Women potentially eligible | Initial eligibility screening for focus group | 270 | 1 | 7/60
Eligible women | Confirmation of eligibility for focus group | 90 | 1 | 10/60
Eligible women | Reminder phone call for focus group participant | 90 | 1 | 3/60
Focus group participants | Informed consent form | 60 | 1 | 5/60
Focus group participants | Focus group participant | 60 | 1 | 1.5
Focus group participants | Health literacy assessment | 60 | 1 | 12/60

Dated: December 3, 2004.
Alvin Hall,
Director, Management Analysis and Services Office, Centers for Disease Control and Prevention.

[FR Doc. 04-27191 Filed 12-10-04; 8:45 am]

BILLING CODE 4163-18-P